GENERAL SERVICES ADMINISTRATION

[Notice-MRB-2022-05; Docket No. GAPFAC 2022-0001; Sequence No. 1]

GSA Acquisition Policy Federal Advisory Committee; Notification of Upcoming Web-Based Public Subcommittee Meetings

AGENCY: Office of Government-wide Policy, General Services Administration (GSA).

ACTION: Meeting notice.

SUMMARY: Notice of these web-based subcommittee meetings is being provided in accordance with GSA Policy. This notice provides the schedule for a series of web-based meetings for three subcommittees of the GSA Acquisition Policy Federal Advisory Committee (GAP FAC): the Acquisition Workforce Subcommittee, the Industry Partnerships Subcommittee, and the Policy and Practice Subcommittee. It is GSA policy that subcommittee meetings are open for the public to observe. Information on attending and providing written public comment is under the MEETING REGISTRATION section.

DATES: The Acquisition Workforce Subcommittee will hold recurring web-based meetings every other Tuesday from December 6, 2022 through September 26, 2023, from 3:00 p.m. to 5:00 p.m., Eastern Standard Time (EST). The Industry Partnerships Subcommittee will hold recurring web-based meetings every other Wednesday from December 7, 2022, through September 27, 2023, from 3:00 p.m. to 5:00 p.m., EST. The Policy and Practice Subcommittee will hold recurring web-based meetings every other Thursday from December 8, 2022, through September 28, 2023, from 3:00 p.m. to 5:00 p.m., EST.

ADDRESSES: The meetings will be accessible via webcast. Registrants will receive the webcast information before the meeting.

FOR FURTHER INFORMATION CONTACT: Boris Arratia, Designated Federal Officer, Office of Government-wide Policy, 703-795-0816, or email: boris.arratia@gsa.gov; or Stephanie Hardison, Office of Government-wide Policy, 202-258-6823, or email: stephanie.hardison@gsa.gov. Additional information about the subcommittees and the Committee, including meeting materials and agendas, will be available on-line at https://gsa.gov/policy-regulations/policy/acquisition-policy/gsa-acquisition-policy-federal-advisory-committee.

SUPPLEMENTARY INFORMATION: The Administrator of GSA established the GAP FAC as a discretionary advisory committee under agency authority in accordance with the provisions of the Federal Advisory Committee Act (FACA), as amended (5 U.S.C. app 2). As America's buyer, GSA is uniquely positioned to enable a modern, accessible, and streamlined acquisition ecosystem and a robust marketplace connecting buyers to the suppliers and businesses that meet their mission needs. The GAP FAC will assist GSA in this endeavor through expert advice on a broad range of innovative solutions to acquisition policy, workforce, and industry partnership challenges.

The GAP FAC will serve as an advisory body to GSA's Administrator on how GSA can use its acquisition tools and authorities to target the highest priority Federal acquisition challenges. The GAP FAC will advise GSA's Administrator on emerging acquisition issues, challenges, and opportunities to support its role as America's buyer. The initial focus for the GAP FAC will be on driving regulatory, policy, and process changes required to embed climate and sustainability considerations in Federal acquisition. This includes examining and recommending steps GSA can take to support its workforce and industry partners in ensuring climate and sustainability issues are fully considered in the acquisition process. To accomplish its work, the GAP FAC established three subcommittees: Policy and Practices, Industry Partnerships, and Acquisition Workforce.

The Policy and Practice Subcommittee will focus on procurement policy that supports robust climate and sustainability action. This group will focus on regulatory, policy, and process changes required to embed climate and sustainability considerations in Federal acquisitions.

The Industry Partnerships Subcommittee will investigate ways to expand a climate focus on Federal acquisition while reinforcing inclusion, domestic sourcing, small business opportunity, and innovation from an Industry standpoint. This includes identifying and addressing gaps in sustainable attributes standards for the goods and services that the Federal government buys.

The Acquisition Workforce Subcommittee will explore ways to advance a culture of sustainability and climate action within the acquisition workforce. This includes equipping and enabling the acquisition workforce to effectively use sustainability as a critical element in the evaluation and source selection process.

Purpose of the Meetings

The purpose of these web-based meetings is for the subcommittees to develop recommendations for submission to the full Committee. The Committee will, in turn, deliberate on the subcommittees recommendations and decide whether to proceed with formal advice to GSA based upon them.

Meeting Agenda

• Opening Remarks

• Subject Matter Experts Presentations

• Subcommittee Member Discussions

• Closing Remarks and Adjourn

Meeting Registration

The subcommittee meetings are open to the public and will be accessible by webcast. All public attendees will need to register to obtain the meeting webcast information. Registration information is located on the GAP FAC website: https://www.gsa.gov/policy-regulations/policy/acquisition-policy/gsa-acquisition-policy-federal-advisory-committee. All registrants will be asked to provide their name, affiliation, and email address. After registration, individuals will receive webcast access information via email.

Public Comments

Written public comments are being accepted via http://www.regulations.gov, the Federal eRulemaking portal throughout the life of the three Subcommittees. To submit a written public comment, go to http://www.regulations.gov and search for GAPFAC-2022-0001. Select the link “Comment Now” that corresponds with this notice. Follow the instructions provided on the screen. Please include your name, company name (if applicable), and “GAPFAC-2022-0001, Notification of Upcoming Web-Based Public Meetings” on your attached document (if applicable).

Special Accomodations

For information on services for individuals with disabilities, or to request accommodation of a disability, please contact the Designated Federal Officer at least 10 business days prior to the meeting to give GSA as much time as possible to process the request. Live ASL interpreter services will be available.

Jeffrey A. Koses,
Senior Procurement Executive, Office of Government-wide Policy.

[FR Doc. 2022-25228 Filed 11-17-22; 8:45 am]

BILLING CODE 6820-RV-P